DEPARTMENT OF HOMELAND SECURITY

Coast Guard

46 CFR Part 4

[USCG-2001-8773]

RIN 1625-AA27 (formerly 2115-AG07)

Marine Casualties and Investigations; Chemical Testing Following Serious Marine Incidents

AGENCY: Coast Guard, DHS.

ACTION: Notice of proposed rulemaking; reopening of comment period.

SUMMARY: The Coast Guard is reopening the comment period on the notice of proposed rulemaking for “Marine Casualties and Investigation; Chemical Testing Following Serious Marine Incidents” published in the Federal Register on February 28, 2003. Hurricane Isabel forced the closure of all Federal Government offices in the Washington, DC, metropolitan area and the public meeting scheduled for September 19, 2003, was not held. As a result of the limited number of participants who registered to attend that meeting, the Coast Guard has decided not to reschedule the meeting and is instead reopening the comment period to allow submission of additional comments to the docket.

DATES: Comments must reach the docket on or before November 20, 2003.

ADDRESSES: You may submit comments identified by Coast Guard docket number USCG-2001-8773 to the Docket Management Facility at the U.S. Department of Transportation (DOT). To avoid duplication, please use only one of the following methods:

(1) Web Site: http://dms.dot.gov.

(2) Federal eRulemaking Portal: http://www.regulations.gov.

(3) Mail: Docket Management Facility, DOT, 400 Seventh Street SW., Washington, DC 20590-0001.

(4) Fax: (202) 493-2251.

(5) Delivery: Room PL-401 on the Plaza level of the Nassif Building, 400 Seventh Street SW., Washington, DC, between 9 a.m. and 5 p.m., Monday through Friday, except Federal holidays. The telephone number is (202) 366-9329.

FOR FURTHER INFORMATION CONTACT: For questions on the proposed rule, call Mr. Robert C. Schoening, Drug and Alcohol Program Manager, telephone (202) 267-0684; or e-mail him at Rschoening@comdt.uscg.mil. For questions on viewing material in the docket, call Andrea M. Jenkins, Program Manager, Docket Operations, DOT, telephone (202) 366-0271.

SUPPLEMENTARY INFORMATION:

Request for Comments

We encourage you to participate in this rulemaking by submitting comments and related materials. All comments received will be posted, without change, to http://dms.dot.gov and will include any personal information you have provided. We have an agreement with the DOT to use the Docket Management Facility even though the Coast Guard has recently transferred to DHS. Please see the DOT's statement on the Privacy Act three paragraphs below.

Submitting comments: If you submit a comment, please include your name and address, identify the docket number for this rulemaking [USCG-2001-8773], indicate the specific section of this document to which each comment applies, and give the reason for each comment. You may submit your comments and material by electronic means, mail, fax, or delivery to the Docket Management Facility at the address under ADDRESSES; but please submit your comments and material by only one means. If you submit them by mail or delivery, submit them in an unbound format, no larger than 8½ by 11 inches, suitable for copying and electronic filing. If you submit them by mail and would like to know that they reached the Facility, please enclose a stamped, self-addressed postcard or envelope. We will consider all comments and material received during the comment period in developing the final rule.

Viewing comments and documents: To view comments, as well as documents mentioned in this preamble as being available in the docket, go to http://dms.dot.gov at any time and conduct a simple search using the docket number. You may also visit the Docket Management Facility in room PL-401 on the Plaza level of the Nassif Building, 400 Seventh Street SW., Washington, DC, between 9 a.m. and 5 p.m., Monday through Friday, except Federal holidays.

Privacy Act: Anyone can search the electronic form of all comments received into any of our dockets by the name of the individual submitting the comment (or signing the comment, if submitted on behalf of an association, business, labor union, or the like). You may review the DOT's statement on the Privacy Act in the Federal Register published on April 11, 2000 [65 FR 19477], or you may visit http://dms.dot.gov.

Regulatory History

On February 28, 2003, the Coast Guard published a notice of proposed rulemaking (NPRM) in the Federal Register [68 FR 9622] proposing changes to the alcohol testing requirements for commercial vessels following a serious marine incident.

On August 28, 2003, the Coast Guard published a notice in the Federal Register [68 FR 50992], announcing a public meeting and reopening the NPRM comment period.

Background Information

The 1998 Coast Guard Authorization Act requires the Coast Guard to establish procedures ensuring alcohol testing is conducted within two hours of a serious marine casualty. The Coast Guard proposes to establish requirements for testing within the statutory time limits, to expand the existing requirements for commercial vessels to have alcohol testing devices on board, and to authorize the use of a wider variety of testing devices.

For further information, the public should review the NPRM published in the Federal Register [68 FR 9622], and for questions concerning that document contact Mr. Robert C. Schoening who is listed under FOR FURTHER INFORMATION CONTACT.

Additional Comment Period

In response to seven comments to the NPRM requesting a public meeting, the Coast Guard had scheduled a public meeting for September 19, 2003. As a result of Hurricane Isabel forcing the closure of all Federal Government offices in the Washington, DC, metropolitan area, the public meeting was not held. In its notice, the Coast Guard had asked those planning to speak at the meeting to register by September 17, 2003.

By the close of business on September 17, 2003, nine persons had registered to attend the public meeting, with seven requesting to speak. Of the seven persons who originally submitted comments requesting a meeting, only two had registered to attend and to make a presentation.

As a result of the limited number of participants who registered to attend the meeting, the Coast Guard has decided not to reschedule the meeting and is, instead, reopening the comment period for an additional 30 days from the date of this notice.

This additional 30-day comment period should be adequate time for those who had planned to attend the public meeting to submit further comments to the docket.

Dated: October 14, 2003.
Joseph J. Angelo,
Director of Standards, Marine Safety, Security & Environmental Protection.

[FR Doc. 03-26512 Filed 10-20-03; 8:45 am]

BILLING CODE 4910-15-P